DEPARTMENT OF DEFENSE

Office of the Secretary

Defense Intelligence Agency National Intelligence University Board of Visitors; Notice of Federal Advisory Committee Meeting

AGENCY: National Intelligence University, Defense Intelligence Agency, Department of Defense.

ACTION: Notice of closed meeting.

SUMMARY: The Department of Defense is publishing this notice to announce that the following Federal Advisory Committee meeting of the National Intelligence University Board of Visitors has been scheduled. The meeting is closed to the public.

DATES: Tuesday, June 16, 2015 (7:30 a.m. to 5:00 p.m.) and Wednesday, June 17, 2015 (7:30 a.m. to 1:30 p.m.).

ADDRESSES: Intelligence Community Campus—Bethesda, 4600 Sangamore Road, Bethesda, MD 20816.

FOR FURTHER INFORMATION CONTACT: Dr. David R. Ellison, President, DIA National Intelligence University, Washington, DC 20340-5100, Phone: (202) 231-3344.

SUPPLEMENTARY INFORMATION:

Purpose: The Board will discuss several current critical intelligence issues and advise the Director, DIA, as to the successful accomplishment of the mission assigned to the National Intelligence University.

Agenda: The following topics are listed on the National Intelligence University Board of Visitors meeting agenda: Bethesda Campus Tour; Accreditation Requirements; Director's Strategic Guidance; Process Overview; NIU Vision, Mission, and Values; NIU Strategic Goals and Objectives; Resource Requirements; Implementation Strategies; Succession Planning; Honorary Degrees; Executive Session; College of Strategic Intelligence: Concentration Programs and Leadership Certificate; and Research Update/Presentations.

The entire meeting is devoted to the discussion of classified information as defined in 5 U.S.C. 552b(c)(1) and therefore will be closed. Pursuant to 41 CFR 102-3.105(j) and 102-3.140, and section 10(a)(3) of the Federal Advisory Committee Act of 1972, the public or interested organizations may submit written statements to the National Intelligence University Board of Visitors about its mission and functions. Written statements may be submitted at any time or in response to the stated agenda of a planned meeting of the National Intelligence University Board of Visitors. All written statements shall be submitted to the Designated Federal Officer for the National Intelligence University Board of Visitors, and this individual will ensure that the written statements are provided to the membership for their consideration. Contact information for the Designated Federal Officer can be obtained from the GSA's FACA Database— http://www.facadatabase.gov/.

Dated: May 15, 2015.
Aaron Siegel,
Alternate OSD Federal Register Liaison Officer, Department of Defense.

[FR Doc. 2015-12226 Filed 5-19-15; 8:45 am]

BILLING CODE 5001-06-P